DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. * Elevation in feet (NGVD) • Elevation in feet (NAVD)
KENTUCKY
Magoffin County (FEMA Docket No. D-7590)
Licking River:
Approximately 0.5 mile downstream of State Route 30 | * 848
Approximately 0.2 mile downstream of Combs Mountain Parkway | * 860
City of Salyersville, Magoffin County (Unincorporated Areas)
Burning Fork:
At the confluence with Licking River | * 853
Approximately 0.1 mile upstream of Lick Branch Road | * 863
City of Salyersville, Magoffin County (Unincorporated Areas)
State Road Fork:
At the confluence with Licking River | * 853
Approximately 1.7 miles upstream of State Route 2020 | * 886
City of Salyersville, Magoffin County (Unincorporated Areas)
Route 7 Cut-Thru:
At the confluence with Licking River | * 850
At the divergence from Licking River | * 857
City of Salyersville, Magoffin County (Unincorporated Areas)
Route 30 Cut-Thru:
At the upstream side of State Route 30 | * 848
At the divergence from Licking River | * 849
Mash Fork:
Approximately 0.36 mile upstream of the confluence with State Road Fork | * 860
Approximately 0.56 mile upstream of the confluence with State Road Fork | * 864
Magoffin County (Unincorporated Areas)
Magoffin County (Unincorporated Areas)
Maps available for inspection at Magoffin County Courthouse, Judge's Office, 457 Parkway Drive, Salyersville, Kentucky.
City of Salyersville
Maps available for inspection at the Salyersville City Hall, 315 East Maple Street, Salyersville, Kentucky.
NEW JERSEY
Bergen County (FEMA Docket No. D-7616)
Musquapsink Brook:
Approximately 2,600 feet upstream of confluence with Pascack Brook | * 38
At Saddle River Road | * 243
Boroughs of Emerson, Westwood, Hillsdale, Woodcliff Lake, Paramus, Township of Washington
Pascack Brook:
Approximately 0.71 mile downstream of Brookside Avenue | * 26
Approximately 1,300 feet from the upstream side of Magnolia Avenue | * 205
Boroughs of Emerson, River Vale, Hillsdale, Woodcliff Lake, Park Ridge, Montvale, Harrington Park
Musquapsink Brook By-Pass:
At the confluence of Musquapsink Brook | * 60
Just downstream of Washington Lake Dam South | * 68
Township of Washington
Tandy Brook:
At the confluence with Pascack Brook | * 63
Approximately 375 feet downstream of Saddlewood Drive | * 63
Borough of Hillsdale
Westdale Brook:
At the confluence with Pascack Brook | * 59
Approximately 1,740 feet from upstream side of Harding Avenue | * 59
Borough of Westwood
Borough of Emerson
Maps available for inspection at the Emerson Borough Hall, Municipal Place, Emerson, New Jersey.
Borough of Harrington Park
Maps available for inspection at the Harrington Park Municipal Center, 85 Harriot Avenue, Harrington Park, New Jersey.
Borough of Hillsdale
Maps available for inspection at the Hillsdale Borough Hall, 380 Hillsdale Avenue, Hillsdale, New Jersey.
Borough of Montvale
Maps available for inspection at the Montvale Borough Hall, 1 Memorial Drive, Montvale, New Jersey.
Borough of Paramus
Maps available for inspection at the Paramus Borough Hall, 1 Jockish Square, Paramus, New Jersey.
Borough of Park Ridge
Maps available for inspection at the Park Ridge Borough Hall, 55 Park Avenue, Park Ridge, New Jersey.
Township of River Vale
Maps available for inspection at the River Vale Township Office, 406 River Vale Road, River Vale, New Jersey.
Township of Washington
Maps available for inspection at the Washington Township Office, 350 Hudson Avenue, Washington, New Jersey.
Borough of Westwood
Maps available for inspection at the Westwood Borough Hall, 101 Washington Avenue, Westwood, New Jersey.
Borough of Woodcliff Lake
Maps available for inspection at the Woodcliff Lake Municipal Building, 188 Pascack Road, Woodcliff Lake, New Jersey.
NEW JERSEY
Union County (FEMA Docket No. D-7598)
Rahway River:
At a point immediately upstream of Lawrence Street | *9
Approximately 400 feet downstream of Springfield Avenue | *91
City of Rahway, Townships of Clark, Cranford, Springfield, Union, Winfield, Borough of Kenilworth
Black Brook:
At the confluence with Rahway River | *75
Approximately 180 feet downstream of Springfield Road | *75
Borough of Kenilworth, Township of Union
Branch 10-30-1:
At the confluence with Drainage Ditch | *75
Approximately 350 feet upstream of Lafayette Place | *75
Borough of Kenilworth
College Branch:
At the confluence with Rahway River | *72
At a point immediately upstream of Springfield Avenue | *72
Township of Cranford
Drainage Ditch:
At the confluence with Rahway River | *73
At the confluence of Branch 10-30-1 | *75
Borough of Kenilworth, Township of Springfield
Gallows Hill Road Branch:
At the confluence with Rahway River | *71
Approximately 350 feet upstream of Pittsfield Street | *71
Township of Cranford
Garwood Brook:
At the confluence with Rahway River | *70
Approximately 250 feet upstream of West Holly Street | *70
Township of Cranford
Nomahegan Brook:
At the confluence with Rahway River | *74
Approximately 580 feet downstream of Springfield Avenue | *74
Townships of Cranford and Springfield, Town of Westfield
Robinsons Branch:
At the confluence with Rahway River | *14
At the confluence of Robinsons Branch | *50
City of Rahway, Town of Westfield, Township of Clark
South Branch:
At the confluence with Rahway River | *9
Approximately 100 feet upstream of East Inman Avenue | *10
City of Rahway
Stream 10-30:
At the confluence with Drainage Ditch | *74
Approximately 100 feet downstream of Willshire Drive | *74
Borough of Kenilworth
Vauxhall Branch:
At the confluence with Rahway River | *91
At Liberty Avenue | *91
Township of Union
Cedar Brook:
At Terrill Road | *131
A point immediately upstream of Willow Avenue | *141
Borough of Fanwood
Vauxhall Sub Branch:
At the confluence with Vauxhall Branch | *91
At Interstate 78 | *91
Township of Union
West Branch:
At the confluence with Elizabeth River | *42
Approximately 1,400 feet upstream of Garden State Parkway entrance ramp | *60
Township of Union
Lightning Brook:
At the confluence with Elizabeth River | *55
Approximately 950 feet downstream of Union Avenue | *55
Township of Union
Elizabeth River:
At Trotters Lane | *18
Approximately 1,050 feet upstream of Union Avenue | *68
Townships of Union and Hillside
Trotters Lane Branch:
At Morris Avenue | *27
Approximately 300 feet downstream of North Avenue | *28
City of Elizabeth
Kings Creek:
A point immediately upstream of Barnett Street | *10
Approximately 1,000 feet upstream of Lower Road to Rahway | *13
City of Rahway
East Branch Rahway River:
Approximately 450 feet upstream of the confluence with Rahway River | *91
Approximately 2,800 feet downstream of Vauxhall Road | *91
Townships of Union and Springfield
Kings Creek:
Approximately 715 feet downstream of U.S. Route 9 | #1
Just downstream of U.S. Route 9 | #1
City of Linden
Township of Clark
Maps available for inspection at the Clark Township Engineer's Office, Municipal Building, 430 Westfield Avenue, Clark, New Jersey.
Township of Cranford
Maps available for inspection at the Cranford Township Engineer's Office, Municipal Building, 8 Springfield Avenue, Cranford, New Jersey.
City of Elizabeth
Maps available for inspection at the Elizabeth City Engineer's Office, 50 Winfield Scott Plaza, Elizabeth, New Jersey.
Borough of Fanwood
Maps available for inspection at the Fanwood Borough Engineer's Office, 75 North Martine Avenue, Fanwood, New Jersey.
Township of Hillside
Maps available for inspection at the Hillside Township Engineer's Office, JFK Plaza, Hillside and Liberty Avenue, Hillside, New Jersey.
Borough of Kenilworth
Maps available for inspection at the Kenilworth Borough Engineer's Office, Municipal Building, 567 Boulevard, Kenilworth, New Jersey.
City of Linden
Maps available for inspection at the Linden City Engineer's Office, Municipal Building, 301 North Wood Avenue, Linden, New Jersey.
City of Rahway
Maps available for inspection at the Rahway City Engineer's Office, 1 City Hall Plaza, Rahway, New Jersey 07065.
Township of Springfield
Maps available for inspection at the Springfield Township Engineer's Office, Municipal Building, 100 Mountain Avenue, Springfield, New Jersey.
Township of Union
Maps available for inspection at the Union Township Engineer's Office, Municipal Building, 1976 Morris Avenue, Union, New Jersey.
Town of Westfield
Maps available for inspection at the Westfield Town Engineer's Office, Municipal Building, 425 East Broad Street, Westfield, New Jersey.
Township of Winfield
Maps available for inspection at the Winfield Township Municipal Building, 12 Gulfstream Avenue, New Jersey.
WEST VIRGINIA
Cabell County (FEMA Docket No. D-7612)
Fudges Creek:
Approximately 460 feet upstream of Interstate 64 | •580
Approximately 1,200 feet north of the intersection of Howells Mill Road and U.S. Route 60 | •580
Cabell County (Unincorporated Areas)
Lee Creek:
Approximately 50 feet downstream of Interstate 64 | •606
Approximately 50 feet upstream of Interstate 64 | •608
City of Milton
Cabell County (Unincorporated Areas)
Maps available for inspection at the Cabell County Office of Grants, Planning and Permits, Cabell County Courthouse, room 314, Hunting, West Virginia.
City of Milton
Maps available for inspection at the City of Milton Annex Building, 1595 U.S. Route 60 East, Milton, West Virginia.

(Catalog of Federal Domestic Assistance No. 83.100, “Flood Insurance.”)

Dated: May 16, 2005.
David I. Maurstad,
Acting Director, Mitigation Division, Emergency Preparedness and Response Directorate.

[FR Doc. 05-10306 Filed 5-23-05; 8:45 am]

BILLING CODE 9110-12-P